FEDERAL COMMUNICATIONS COMMISSION

Notice of Public Information Collection(s) being Submitted to OMB for Review and Approval

June 13, 2001.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 30, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0360.

Title: Section 80.409(c), Public Coast Station Logs.

Form Number: N/A.

Type of Review: Extension of a currently approved collection.

Respondents: Business or other for-profit entities; and Not-for-profit institutions; Individuals or households; and State, local, or tribal governments.

Number of Respondents: 316.

Estimated Time per Response: 95 hrs.

Frequency of Response: Recordkeeping.

Total Annual Burden: 30,020 hours.

Total Annual Costs: None.

Needs and Uses: The recordkeeping requirement contained in 47 CFR § 80.409(c) is necessary to document the operation and public correspondence service of public coast radiotelegraph, public coast radiotelephone stations, and Alaska-public fixed stations, including the logging of distress and safety calls where applicable. A retention period of more than one year is required where a log involves communications relating to a disaster, an investigation, or any claim or complaint. The Commission uses this information to ensure compliance with applicable rules and to assist in accident investigations.

OMB Control Number: 3060-0364.

Title: Section 80.409(d) and (e), Ship Radiotelephone Logs.

Form Number: N/A.

Type of Review: Extension of a currently approved collection.

Respondents: Businesses or other for-profit entities; Not-for-profit institutions; and State, local, or tribal governments.

Number of Respondents: 10,950.

Estimated Time per Response: 47.3 hours.

Frequency of Response: Recordkeeping.

Total Annual Burden: 517,935 hours.

Total Annual Costs: None.

Needs and Uses: The recordkeeping requirement in 47 CFR §§ 80.409(d) and (e) is necessary to document that compulsory radio equipped vessels and high seas vessels maintain listening watches and logs as required by statutes and treaties (including treaty requirements contained in Appendix 11 of the International Radio Regulations, Chapter IV, Regulation 19 of the International Convention for the Safety of Life at Sea, the Bridge-to-Bridge Radiotelephone Act, The Great Lakes Agreement, and the Communications Act). A retention period of more than one year is required when a log involves communications relating to a disaster, an investigation, any claim, or complaint. The FCC uses this information during inspections and investigations to insure compliance with applicable rules and treaties and to assist in vessel distress and disaster investigations. Foreign governments may use this information for similar purposes when a vessel is operating in their territorial waters.

Federal Communications Commission.
Magalie Roman Salas,
Secretary.

[FR Doc. 01-16423 Filed 6-28-01; 8:45 am]

BILLING CODE 6712-01-P